DEPARTMENT OF HOMELAND SECURITY

Federal Emergency Management Agency

[Docket ID FEMA-2016-0002]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: August 3, 2016.
Roy E. Wright,
Deputy Associate Administrator for Insurance and Mitigation, Department of Homeland Security, Federal Emergency Management Agency.

State and county | Location and case No. | Chief executive officer of community | Community map repository | Effective date of modification | Community No.
Idaho:
Ada (FEMA Docket No.: B-1606) | Unincorporated areas of Ada County (16-10-0201X) | The Honorable Dave Case, District Commissioner, Ada County, 200 West Front Street, 3rd Floor, Boise, ID 83702 | County Courthouse, 200 West Front Street, 3rd Floor, Boise, ID 83702 | Apr. 15, 2016 | 160001
Valley (FEMA Docket No.: B-1606) | City of Donnelly (16-10-0166P) | The Honorable Bradley Backus, Mayor, City of Donnelly, 169 Halferty Street, Donnelly, ID 83615 | City Hall, 169 Halferty Street, Donnelly, ID 83615 | Apr. 22, 2016 | 160121
Valley (FEMA Docket No.: B-1606) | Unincorporated areas of Valley County (16-10-0166P) | The Honorable Gordon Cruickshank, Chairman, Valley County Board of Commissioners, 219 North Main Street, Cascade, ID 83611 | Valley County Planning and Zoning Department, 219 North Main Street, Cascade, ID 83611 | Apr. 22, 2016 | 160220
Indiana:
Decatur (FEMA Docket No.: B-1606) | City of Greensburg (15-05-5745P) | The Honorable Gary L. Herbert, Mayor, City of Greensburg, 314 West Washington Street, Greensburg, IN 47240 | City Hall, 314 West Washington Street, Greensburg, IN 47240 | Apr. 27, 2016 | 180043
Decatur (FEMA Docket No.: B-1606) | Unincorporated areas of Decatur County (15-05-5745P) | Mr. Rick J. Nobbe, Chairman, Decatur County Board of Commissioners, 150 Courthouse Square, Suite 133, Greensburg, IN 47240 | Decatur County Planning and Zoning Department, Decatur County Courthouse, 150 Courthouse Square, Suite 117, Greensburg, IN 47240 | Apr. 27, 2016 | 180430
Massachusetts:
Middlesex (FEMA Docket No.: B-1606) | City of Cambridge (15-01-2142P) | The Honorable David P. Maher, Mayor, City of Cambridge, 495 Massachusetts Avenue, Cambridge, MA 02139 | City Hall, 495 Massachusetts Avenue, Cambridge, MA 02139 | Apr. 8, 2016 | 250186
Middlesex (FEMA Docket No.: B-1606) | Town of Arlington (15-01-2142P) | Mr. Kevin F. Greeley, Chairman, Town of Arlington, Board of Selectmen, 730 Massachusetts Avenue, Arlington, MA 02476 | Planning and Community Development Department, 730 Massachusetts Avenue Annex, Arlington, MA 02476 | Apr. 8, 2016 | 250177
Middlesex (FEMA Docket No.: B-1606) | Town of Belmont (15-01-2142P) | Mr. Sami S. Baghdady, Chairman, Town of Belmont, Board of Selectmen, 455 Concord Avenue, Belmont, MA 02478 | Public Works Department, 455 Concord Avenue, Belmont, MA 02478 | Apr. 8, 2016 | 250182
Norfolk (FEMA Docket No.: B-1513) | City of Quincy (15-01-0874P) | The Honorable Thomas P. Koch, Mayor, City of Quincy, City Hall, 1305 Hancock Street, Quincy, MA 02169 | City Hall, 1305 Hancock Street, Quincy, MA 02169 | Aug. 21, 2015 | 255219
Norfolk (FEMA Docket No.: B-1513) | Town of Milton (15-01-0874P) | Mr. Denis Keohane, Selectman, Town of Milton, Town Office Building, 525 Canton Avenue, Milton, MA 02186 | Town Office Building, 525 Canton Avenue, Milton, MA 02186 | Aug. 21, 2015 | 250245
Michigan:
Macomb (FEMA Docket No.: B-1606) | Charter Township of Washington (15-05-6512P) | Mr. Dan O'Leary, Township Supervisor, Charter Township of Washington, 57900 Van Dyke Road, Washington, MI 48094 | Planning and Zoning Department, 57900 Van Dyke Road, Washington, MI 48094 | Mar. 18, 2016 | 260447
Macomb (FEMA Docket No.: B-1606) | Township of Macomb (16-05-0488P) | Ms. Janet Dunn, Supervisor, Township of Macomb, 54111 Broughton Road, Macomb, MI 48042 | Planning and Zoning Department, 54111 Broughton Road, Macomb, MI 48042 | Apr. 19, 2016 | 260445
Minnesota: Cottonwood (FEMA Docket No.: B-1606) | City of Windom (15-05-5228P) | The Honorable Corey Maricle, Mayor, City of Windom, 444 9th Street, P.O. Box 38, Windom, MN 56101 | City Hall, 444 9th Street, Windom, MN 56101 | Mar. 17, 2016 | 270090
New York: Monroe (FEMA Docket No.: B-1606) | Town of Henrietta (15-02-1216P) | The Honorable Jack W. Moore, Town Supervisor, Town of Henrietta, 475 Calkins Road, Henrietta, NY 14467 | Town Hall, 475 Calkins Road, Henrietta, NY 14467 | Apr. 5, 2016 | 360419
Pennsylvania:
Monroe (FEMA Docket No.: B-1606) | Borough of East Stroudsburg (15-03-2847P) | The Honorable Armand M. Martinelli, Mayor, Borough of East Stroudsburg, 24 Analomink Street, P.O. Box 303, East Stroudsburg, PA 18301 | Municipal Building 24 Analomink Street, East Stroudsburg, PA 18301 | Apr. 26, 2016 | 420691
Monroe (FEMA Docket No.: B-1606) | Borough of Stroudsburg (15-03-2847P) | Mr. Boyd Weiss, President of Council Borough of Stroudsburg, 700 Sarah Street, Stroudsburg, PA 18360 | Municipal Building, 700 Sarah Street, Stroudsburg, PA 18360 | Apr. 26, 2016 | 420694
Monroe (FEMA Docket No.: B-1606) | Township of Stroud (15-03-2847P) | Mr. Edward C. Cramer, Chairman, Township of Stroud, Board of Supervisors, 1211 North 5th Street, Stroudsburg, PA 18360 | Municipal Building, 1211 North 5th Street, Stroudsburg, PA 18360 | Apr. 26, 2016 | 420693
South Carolina: Greenville (FEMA Docket No.: B-1606) | City of Greenville (15-04-4735P) | The Honorable Knox White, Mayor, City of Greenville, 206 South Main Street, P.O. Box 2207, Greenville, SC 29601 | City Hall, 206 South Main Street, Greenville, SC 29601 | Apr. 25, 2016 | 450091
Texas:
Collin (FEMA Docket No.: B-1606) | City of Dallas (15-06-3975P) | The Honorable Michael S. Rawlings, Mayor, City of Dallas, 1500 Marilla Street, Room 5EN, Dallas, TX 75201 | City Hall, 320 East Jefferson Boulevard, Room 321, Dallas, TX 75203 | Apr. 15, 2016 | 480171
Tarrant (FEMA Docket No.: B-1606) | City of Fort Worth (15-06-2415P) | The Honorable Betsy Price, Mayor, City of Fort Worth, 1000 Throckmorton Street, Fort Worth, TX 76102 | City Hall, 1000 Throckmorton Street, Fort Worth, TX 76102 | Apr. 13, 2016 | 480596
Virginia:
Pittsylvania (FEMA Docket No.: B-1606) | City of Danville (15-03-1839P) | The Honorable Sherman Saunders, Mayor, City of Danville, 115 Druid Lane, Danville, VA 24541 | City Hall, 427 Patton Street, Danville, VA 24541 | Mar. 25, 2016 | 510044
Roanoke (FEMA Docket No.: B-1551) | City of Roanoke (14-03-3119P) | The Honorable David A. Bowers, Mayor, City of Roanoke, 215 Church Avenue, Southwest, Room 452, Roanoke, VA 24011 | Engineering Department, Municipal Building, 215 Church Avenue, Roanoke, VA 24011 | Dec. 30, 2015 | 510130
Washington:
King (FEMA Docket No.: B-1606) | City of Bellevue (15-10-0979P) | Mr. Brad Miyake, City Manager, City of Bellevue, 450 110th Avenue Northeast, Bellevue, WA 98009 | City Hall, 450 110th Avenue Northeast, Bellevue, WA 98009 | Mar. 15, 2016 | 530074
Spokane (FEMA Docket No.: B-1606) | City of Spokane Valley (15-10-1394P) | The Honorable David A. Condon, Mayor, City of Spokane Valley, 808 West Spokane Falls Boulevard, Spokane, WA 99201 | City Hall, 11707 East Sprague, Suite 106, Spokane Valley, WA 99203 | Mar. 18, 2016 | 530342
Wisconsin: St. Croix (FEMA Docket No.: B-1606) | Unincorporated areas of St. Croix County (15-05-3808P) | The Honorable Roger Larson, Chairman, Board of County Supervisors, St. Croix County, 1101 Carmichael Road, Hudson, WI 54016 | County Office Building, 1101 Carmichael Road, Hudson, WI 54016 | Apr. 1, 2016 | 555578

[FR Doc. 2016-19662 Filed 8-17-16; 8:45 am]

BILLING CODE 9110-12-P